DEPARTMENT OF LABOR

Employment and Training Administration

Amended Certification Regarding Eligibility To Apply for Worker Adjustment Assistance

TA-W-75,236

SILBERLINE MANUFACTURING COMPANY, INC., HOMETOWN FACILITY, TAMAQUA, PENNSYLVANIA.

TA-W-75,236A

SILBERLINE MANUFACTURING COMPANY, INC., LANSFORD FACILITY, LANSFORD, PENNSYLVANIA.

TA-W-75,236B

SILBERLINE MANUFACTURING COMPANY, INC., TIDEWOOD FACILITY, TAMAQUA, PENNSYLVANIA.

TA-W-75,236C

SILBERLINE MANUFACTURING COMPANY, INC., DECATUR, FACILITY, DECATUR INDIANA.

In accordance with Section 223 of the Trade Act of 1974, as amended (“Act”), 19 U.S.C. 2273, the Department of Labor issued a Certification of Eligibility to Apply for Worker Adjustment Assistance on March 4, 2011, applicable to workers of Silberline Manufacturing Company, Inc., Hometown Facility, Tamaqua, Pennsylvania, Silberline Manufacturing Company, Inc., Lansford Facility, Lansford, Pennsylvania, Silberline Manufacturing, Inc., Tidewood Facility, Tamaqua, Pennsylvania and Silberline Manufacturing Company, Inc., Decatur Facility, Decatur, Indiana. The notice will be published soon in the Federal Register.

At the request of the State Agency, the Department reviewed the certification for workers of the subject firm. The workers are engaged in the production of special effects and performance pigments.

The review shows that on March 13, 2009, a certification of eligibility to apply for adjustment assistance was issued for all workers of Silberline Manufacturing Company, Inc., Hometown Facility, Tamaqua, Pennsylvania (TA-W-65,023), Silberline Manufacturing Company, Inc., Lansford Facility, Lansford, Pennsylvania (TA-W-65,023A), Silberline Manufacturing, Inc., Tidewood Facility, Tamaqua, Pennsylvania (TA-W-65,023B), and Silberline Manufacturing Company, Inc., Decatur Facility, Decatur, Indiana (A-W-65,023C). This certification remained in effect until March 13, 2011. The notice was published in the Federal Register on March 25, 2009 (74 FR 12901-12902).

In order to avoid an overlap in worker group coverage, the Department is amending the March 10, 2011 impact date established for TA-W-75,236, TA-W-75,236A, TA-W-75,236B and TA-W-75,236C to read March 14, 2011.

The amended notice applicable to TA-W-75,236, TA-W-75,236A, TA-W-75,236B and TA-W-75,236C are hereby issued as follows:

All workers of Silberline Manufacturing Company, Inc., Hometown Facility, Tamaqua, Pennsylvania (TA-W-75,236), Silberline Manufacturing Company, Inc., Lansford Facility, Lansford, Pennsylvania (TA-W-75,236A), Silberline Manufacturing Company, Inc., Tidewood Facility, Tamaqua, Pennsylvania (TA-W-75,236B), and Silberline Manufacturing Company, Inc., Decatur Facility, Decatur, Indiana, (TA-W-75,236C), who became totally or partially separated from employment on or after March 14, 2011, through March 4, 2013, and all workers in the group threatened with total or partial separation from employment on the date of certification through two years from the date of certification, are eligible to apply for adjustment assistance under Chapter 2 of Title II of the Trade Act of 1974, as amended.

Signed in Washington, DC this 15th day of March, 2011.
Michael W. Jaffe,
Certifying Officer, Office of Trade Adjustment Assistance.

[FR Doc. 2011-6802 Filed 3-22-11; 8:45 am]

BILLING CODE 4510-FN-P